NATIONAL AERONAUTICS AND SPACE ADMINISTRATION

[Notice (01-015)]

NASA Advisory Council (NAC), Task Force on International Space Station Operational Readiness; Meeting

AGENCY: National Aeronautics and Space Administration.

ACTION: Notice of meeting change.

Federal Register Citation of Previous Announcement: 65 FR 243, Notice Number 00-143, December 18, 2000.

Previously Announced Date and Address of Meeting: Wednesday, January 31, 2001, 12 p.m.-1 p.m. Eastern Standard Time; NASA Headquarters, 300 E Street, SW, Room 7W31, Washington, DC 20546.

Changes in the Meeting: Date changes to Wednesday, February 7, 2001; Time remains 12 p.m.-1 p.m. Eastern Standard Time; NASA Headquarters, 300 E Street, SW, Room 7W31, Washington, DC 20546.

FOR FURTHER INFORMATION CONTACT: Mr. Philip Cleary, Code IH, National Aeronautics and Space Administration, Washington, DC 20546-0001, 202/358-4461.

SUPPLEMENTARY INFORMATION: This meeting will be open to the public up to the seating capacity of the room. The agenda for the meeting is as follows:

—To assess the operational readiness of the International Space Station to support the new crew and the American and Russian flight team's preparedness to accomplish the Expedition Two mission.

It is imperative that the meeting be held on these dates to accommodate the scheduling priorities of the key participants. Visitors will be requested to sign a visitors register.

Dated: January 16, 2001.
Beth M. McCormick,
Advisory Committee Management Officer, National Aeronautics and Space Administration.

[FR Doc. 01-1775 Filed 1-19-01; 8:45 am]

BILLING CODE 7510-01-U